INTERNATIONAL TRADE COMMISSION

[Investigations Nos. 731-TA-753-756 (Review)]

Cut-to-Length Carbon Steel Plate From China, Russia, South Africa, and Ukraine

Determinations

On the basis of the record ¹ developed in the subject five-year reviews, the United States International Trade Commission (Commission) determines, pursuant to section 751(c) of the Tariff Act of 1930 (19 U.S.C. 1675(c)) (the Act), that termination of the suspended investigations on cut-to-length carbon steel plate from China, Russia, and Ukraine would be likely to lead to continuation or recurrence of material injury to an industry in the United States within a reasonably foreseeable time. The Commission further determines that termination of the suspended investigation on the subject product from South Africa would not be likely to lead to continuation or recurrence of material injury to an industry in the United States within a reasonably foreseeable time.²

¹ The record is defined in sec. 207.2(f) of the Commission's Rules of Practice and Procedure (19 CFR 207.2(f)).

² Commissioner Stephen Koplan dissenting. Commissioner Charlotte Lane did not participate in these reviews.

Background

The Commission instituted these reviews on September 3, 2002 (67 FR 56311) and determined on December 9, 2002 that it would conduct full reviews (67 FR 77803, December 19, 2002). Notice of the scheduling of the Commission's reviews and of a public hearing to be held in connection therewith was given by posting copies of the notice in the Office of the Secretary, U.S. International Trade Commission, Washington, DC, and by publishing the notice in the Federal Register on March 21, 2003 (68 FR 13950). The hearing was held in Washington, DC, on July 8, 2003, and all persons who requested the opportunity were permitted to appear in person or by counsel.

The Commission will transmit its determinations in these reviews to the Secretary of Commerce on August 29, 2003. The views of the Commission are contained in USITC Publication 3626 (September 2003), entitled Cut-to-length Carbon Steel Plate from China, Russia, South Africa, and Ukraine: Investigations Nos. 731-TA-753-756 (Review).

Issued: August 29, 2003.
By order of the Commission.
Marilyn R. Abbott,
Secretary.

[FR Doc. 03-22538 Filed 9-3-03; 8:45 am]

BILLING CODE 7020-02-P